DEPARTMENT OF DEFENSE

Office of the Inspector General; Privacy Act of 1974; System of Records

AGENCY: Office of the Inspector General, DoD.

ACTION: Notice to Amend Systems of Records.

SUMMARY: The Office of the Inspector General, DoD, is amending a system of records notice in its existing inventory of record systems subject to the Privacy Act of 1974, (5 U.S.C. 552a), as amended.

DATES: This proposed action will be effective without further notice on June 9, 2003 unless comments are received which result in a contrary determination.

ADDRESSES: Send comments to Office of the Inspector General, Department of Defense, 400 Army Navy Drive, Room 201, Arlington, VA 22202-4704.

FOR FURTHER INFORMATION CONTACT: Mr. Joseph E. Caucci at (703) 604-9786.

SUPPLEMENTARY INFORMATION: The Office of the Inspector General, DoD, systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: April 30, 2003.
Patricia L. Toppings,
Alternate OSD Federal Register Liaison Officer, Department of Defense.

CIG-09

System name:

Personnel Security Clearance/Eligibility Data (February 22, 1993, 58 FR 10213).

Changes:

* * * * *

System name:

Replace entry with ‘Security Management and Access Files’.

* * * * *

Categories of individuals covered by the system:

Delete entry and replace with ‘All civilian, contractor, and military personnel of the Office of the Inspector General of the Department of Defense (OIG DoD) who have been found eligible for employment/assignment, and who qualify and are eligible to occupy sensitive positions, perform sensitive duties, or for access to classified information.'

Categories of records in the system:

Delete entry and replace with ‘Records of each individual associated with personnel security functions. These records also include, but are not limited to, individual’s name; Social Security Number; date and place of birth; current employment status; duty address; security training; an individual's qualification and eligibility to occupy sensitive positions, perform sensitive duties, or for access to classified information; certificates of clearance; security violations; identification badge records, courier authorizations, and access control records.”

* * * * *

Retrievability:

Delete entry and replace with ‘Information is retrieved by individual’s name, Social Security Number, and date and place of birth.’

Safeguards:

Delete entry and replace with ‘Access to building is protected by guards requiring positive identification for admission. Access to computerized files is password protected, and is limited to authorized users having a need-to-know in the performance of their official duties.’

Retention and disposal:

Delete entry and replace with Paper records are destroyed when superseded, obsolete or upon notification of death, or no later than 5 years after transfer or separation of the individual.

Electronic records are deleted after dissemination, revision or updating is complete, or within 180 days after the paper copy has been produced.”

* * * * *

CIG-09

System name:

Security Management and Access Files.

System location:

Office of Security, Office of the Chief of Staff, Office of the Inspector General of the Department of Defense, 400 Army Navy Drive, Arlington, VA 22202-4704.

Categories of individuals covered by the system:

All civilian, contractor, and military personnel of the Office of the Inspector General of the Department of Defense (OIG DoD) who have been found eligible for employment/assignment, and who qualify and are eligible to occupy sensitive positions, perform sensitive duties, or for access to classified information.

Categories of records in the system:

Records of each individual associated with personnel security functions. These records also include, but are not limited to, individual’s name; Social Security Number; date and place of birth; current employment status; duty address; security training; an individual's qualification and eligibility to occupy sensitive positions, perform sensitive duties, or for access to classified information; certificates of clearance; security violations; identification badge records, courier authorizations, and access control records.

Authority for maintenance of the system:

E.O. 10450, Security Requirements for Government Employment, as amended; DoD 5200.2-R, DoD Personnel Security Program Regulation; and E.O. 9397 (SSN).

Purpose(s):

This record system is used by OIG Management officials to control the number of, and level of, sensitive positions; identify personnel assigned to these positions; and to determine whether personnel have been granted a clearance and the level of such clearance or access authorized.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information on the clearance/eligibility status of individuals may be provided to the appropriate clearance access officials of other agencies when necessary in the course of official business. Certifications of clearance are issued to officials of other agencies when necessary in the course of official business.

The DoD ‘Blanket Routine Uses’ set forth at the beginning of the OIG's compilation of systems of records notices also apply to this system.

Policies and practices for storing, retrieving, accessing, retaining, and disposing of records in the system:

Storage:

Records maintained in folders; computer printouts and automated data base files.

Retrievability:

Information is retrieved by individual's name, Social Security Number, and date and place of birth.

Safeguards:

Access to building is protected by guards requiring positive identification for admission. Access to computerized files is password protected, and is limited to authorized users having a need-to-know in the performance of their official duties.

Retention and disposal:

Paper records are destroyed when superseded, obsolete or upon notification of death, or no later than 5 years after transfer or separation of the individual.

Electronic records are deleted after dissemination, revision or updating is complete, or within 180 days after the paper copy has been produced.

System manager(s) and address:

Director, Office of Security, Office of the Chief of Staff, Office of the Inspector General of the Department of Defense, 400 Army Navy Drive, Arlington, VA 22202-4704.

Notification procedure:

Individuals seeking to determine whether information about themselves is contained in this system of records should address written inquiries to the Chief, Freedom of Information Act/Privacy Act Office, 400 Army Navy Drive, Arlington, VA 22202-4704.

Written request should contain the individual's full name, Social Security Number, date and place of birth, current address and telephone numbers of the individual requester.

Record access procedures:

Individuals seeking to determine whether information about themselves is contained in this system of records should address written inquiries to the Chief, Freedom of Information Act/Privacy Act Office, 400 Army Navy Drive, Arlington, VA 22202-4704.

Written request should contain the individual's full name, Social Security Number, date and place of birth, current address and telephone numbers of the individual requester.

For personal visits, the individual should be able to provide some acceptable identification, that is driver's license or employing office identification card.

Contesting record procedures:

The OIG's rules for accessing records and for contesting contents and appealing initial agency determinations are published in 32 CFR part 312 or may be obtained from the system manager.

Record source categories

Certificates of clearance and/or record of personnel security investigations which are completed during a review of reports of investigations conducted by the Department of Defense and other Federal investigative organizations. Also, personnel security files are maintained on individuals.

Exemptions claimed for the system:

None.

[FR Doc. 03-11566 Filed 5-8-03; 8:45 am]

BILLING CODE 5001-08-P